DEPARTMENT OF AGRICULTURE

Food Safety and Inspection Service

9 CFR Parts 307 and 381

[Docket No. FSIS-2011-0032]

RIN 0583-AD48

Additional Changes to the Schedule of Operations Regulations

AGENCY: Food Safety and Inspection Service, USDA.

ACTION: Correction.

SUMMARY: On March 19, 2012, the Food Safety and Inspection Service (FSIS) published a proposed rule to amend the meat and poultry products regulations pertaining to the schedule of operations. The Regulatory Identification Number (RIN) was inadvertently omitted. The RIN number for this proposed rule is 0583-AD48. Comments on the March 19 proposed rule must still be received by the agency on or before April 18, 2012, to be assured of consideration.

DATES: Submit comments on or before April 18, 2012.

ADDRESSES: FSIS invites interested persons to submit comments on this notice. Comments may be submitted by one of the following methods:

• Federal eRulemaking Portal: This Web site provides the ability to type short comments directly into the comment field on this Web page or attach a file for lengthier comments. Go to http://www.regulations.gov. Follow the on-line instructions at that site for submitting comments.

• Mail, including CD-ROMs, etc.: Send to Docket Clerk, U.S. Department of Agriculture, Food Safety and Inspection Service, Patriots Plaza 3, 1400 Independence Avenue SW., Mailstop 3782, Room 8-163A, Washington, DC 20250-3700.

• Hand- or courier-delivered submittals: Deliver to Patriots Plaza 3, 355 E Street SW., Room 8-163A, Washington, DC 20250-3700.

Instructions: All items submitted by mail or electronic mail must include the Agency name and docket number FSIS-2012-0013. Comments received in response to this docket will be made available for public inspection and posted without change, including any personal information, to http://www.regulations.gov.

Docket: For access to background documents or comments received, go to the FSIS Docket Room at Patriots Plaza 3, 355 E Street, Room 8-164, Washington, DC 20250-3700 between 8 a.m. and 4:30 p.m., Monday through Friday.

FOR FURTHER INFORMATION CONTACT: Daniel L. Engeljohn, Assistant Administrator, Office of Policy and Program Development, FSIS, U.S. Department of Agriculture, 1400 Independence Avenue SW., Washington, DC 20250-3700, telephone: (202) 205-0495.

SUPPLEMENTARY INFORMATION:

Need for Correction

On March 19, 2012 (77 FR 15976), the Food Safety and Inspection Service published a proposed rule. Due to an editing error, the RIN number was omitted. The RIN number for this rule is 0583-AD48.

Done at Washington, DC, on March 23, 2012.
Alfred Almanza,
Administrator.

[FR Doc. 2012-7753 Filed 3-30-12; 8:45 am]

BILLING CODE 3410-DM-P